DEPARTMENT OF COMMERCE

International Trade Administration

Performance Review Board; Announcement of New Members

AGENCY: International Trade Administration, Commerce.

ACTION: Notice.

SUMMARY: Announcement of new members for the performance review board.

FOR FURTHER INFORMATION CONTACT: LaVerne H. Hawkins, Department of Commerce, Office of Human Resources, Room 4803, Washington, DC 20230.

SUPPLEMENTARY INFORMATION: This notice announces the appointment by the Acting Under Secretary for International Trade, Robert LaRussa, of the Performance Review Board (PRB). This is a revised list of new members and the reappointment of previous board members as listed in the September 3, 1998, Federal Register 63 FR 47000. The appointments are for a period of 2 years. The purpose of the International Trade Administration's Performance Review Board (PRB) is to review and make recommendations to the appointing authority on performance management issues such as appraisals, and bonuses, ES-level Increases and Presidential Rank Awards for members of the Senior Executive Service (SES). The members are:

Eleanor Roberts Lewis, Chief Counsel for International Trade | Non-ITA career.
Stephen Jacobs, Deputy Assistant Secretary for Agreements Compliance, Market Access & Compliance | Career.
Elizabeth Sears, Deputy Assistant Secretary for Domestic Operations, U.S. & Foreign Commercial Service | Non-career
Barbara Tillman, Senior Director, Import Administration | Career.
Jonathan C. Menes, Director, Office of Trade and Economic Analysis, Trade Development | Career.
Tong S. Chung, Acting Deputy Assistant Secretary for Service Industries and Finance, Trade Development | Non-Career.
Linda Moye Cheatham, Chief Financial Officer and Director of Administration | Career.
LaVerne H. Hawkins, Office of Human Resources Management, 202-482-2537 | Executive Secretary.

Dated: June 2, 2000.
James T. King, Jr.,
Human Resources Manager, ITA.

[FR Doc. 00-14384 Filed 6-7-00; 8:45 am]

BILLING CODE 3510-25-P